DEPARTMENT OF ENERGY

Western Area Power Administration

Application of the Energy Planning and Management Program Power Marketing Initiative to the Boulder Canyon Project Post-2017 Remarketing

AGENCY: Western Area Power Administration, Department of Energy.

ACTION: Notice of Withdrawal of Decisions and Proposals.

SUMMARY: The Western Area Power Administration (Western), a Federal power marketing agency of the Department of Energy (DOE), is withdrawing its decisions and proposals relating to its Boulder Canyon Project (BCP) Post-2017 administrative marketing efforts announced in a notice published in the Federal Register on April 27, 2011, due to the enactment of the Hoover Power Allocation Act of 2011.

DATES: The withdrawal of Western's decisions and proposals is effective as of December 28, 2011.

FOR FURTHER INFORMATION CONTACT: Mr. Mike Simonton, Public Utilities Specialist, Desert Southwest Region, Western Area Power Administration, P.O. Box 6457, Phoenix, AZ 85005, telephone (602) 605-2675, email Post2017BCP@wapa.gov. Information regarding Western's BCP Post-2017 marketing efforts, the Energy Management and Planning Program (Program), and the Conformed General Consolidated Power Marketing Criteria or Regulations for Boulder City Area Projects (Conformed Criteria) published in the Federal Register on December 28, 1984 (49 FR 50582), are available at http://www.wapa.gov/dsw/pwrmkt.

SUPPLEMENTARY INFORMATION: In the April 27, 2011, Federal Register Notice (FRN) (76 FR 23583), Western announced that in marketing the BCP as of October 1, 2017, it will apply the Program's Power Marketing Initiative (PMI) and that all BCP electric service contracts resulting from this marketing effort shall have a term of thirty (30) years commencing October 1, 2017. The effective date of these decisions was designated as May 27, 2011. Subsequently, on May 24, 2011 (76 FR 30147), Western announced an extension of the effective date of these decisions to December 31, 2011.

In the April 27, 2011, FRN, Western also made proposals and sought comments on the amount of marketable contingent capacity and firm energy to be extended to existing contractors, the size of the resource pool to be created, and excess energy provisions.

On December 21, 2011 the Hoover Power Allocation Act of 2011, Public Law 112-72, was enacted into law. The Act directs Western to market contingent capacity and firm energy for delivery to existing contractors in amounts specified in the Act. Contracts shall have a fifty (50) year term, commencing October 1, 2017. The Act also directs Western to create a resource pool of contingent capacity and firm energy to be offered to new allottees. Western will implement these directives in subsequent FRNs. Since the Act supersedes Western's decisions and proposals pertaining to the BCP Post-2017 marketing effort, Western withdraws its decisions and proposals as set forth in its April 27, 2011 FRN, without further public procedure including further response to comments received related to the proposals.

Dated: December 16, 2011.
Timothy J. Meeks,
Administrator.

[FR Doc. 2011-33299 Filed 12-27-11; 8:45 am]

BILLING CODE 6450-01-P